DEPARTMENT OF LABOR

Office of the Secretary

Senior Executive Service; Appointment of Members to the Performance Review Board

Title 5 U.S.C. 4314(c)(4) provides that Notice of the Appointment of the individual to serve as a member of the Performance Review Board of the Senior Executive Service shall be published in the Federal Register.

The following individuals are hereby appointed to serve on the Department's Performance Review Board:

Permanent Membership

Chair—Deputy Secretary

Vice-Chair—Assistant Secretary for Administration and Management

Alternate Vice-Chair—Chief Human Capital Officer—Sydney T. Rose

Executive Secretary—Director, Executive Resources—Lucy Cunningham

Performance Officer—Director, Performance Management Center

Rotating Membership—Appointments Expire on 09/30/20

BLS—Jay A. Mousa, Associate Commissioner for Office of Field Operations

ETA—Leo Miller, Regional Administrator, Philadelphia

MSHA—Patricia W. Silvey, Deputy Assistant Secretary for Operations

OASAM—Tonya Manning, Director, Cyber Security and Chief Information Security Officer

OCFO—Kevin Brown, Associate Deputy Chief Financial Officer

OFCCP—Marika Litras, Director of Enforcement

OLMS—Stephen J. Willertz, Director, Office of Enforcement and International Union Audits

OSHA—Amanda Edens, Director of Technical Support and Emergency Management

OSHA—Kenneth Nishiyama-Atha, Safety and Health Administrator, Chicago

OWCP—Vincent Alvarez, Administrative Officer

SOL—Michael D. Felsen, Regional Solicitor, Boston

SOL—Stanley Keen, Regional Solicitor, Atlanta

SOL—Jeffrey L. Nesvet, Associate Solicitor for Employment and Training Legal Services

WB—Joan Y. Harrigan-Farrelly, Deputy Director

WHD—Patrice R. Torres, Assistant Administrator for Administrative Operations

FOR FURTHER INFORMATION CONTACT: Ms. Lucy Cunningham, Director, Office of Executive Resources, Room N2453, U.S. Department of Labor, Frances Perkins Building, 200 Constitution Ave. NW., Washington, DC 20210, telephone: (202) 693-6624.

Signed at Washington, DC, on October 5, 2017.
R. Alexander Acosta,
Secretary of Labor.

[FR Doc. 2017-22614 Filed 10-17-17; 8:45 am]

BILLING CODE 4510-04-P